DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 11, 2018.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on May 3, 2018.
Donald P. Burger,
Chief, General Approvals and Permits Branch.

Application No. | Applicant | Regulation(s) affected | Nature of the special permits thereof
Special Permits Data
20635-N | FAR RESEARCH, INC | 180.209(a) | To authorize the transportation in commerce of 4BW cylinders used exclusively for trimethylchlorosilane to be visual inspections per CGA C-6 in lieu of periodic hydrostatic testing. (modes 1, 2, 3).
20637-N | LG CHEM | 172.101(j) | To authorize the transportation in commerce of lithium ion batteries in excess of 35 kg by cargo-only aircraft. (mode 4).
20638-N | BALL AEROSOL AND SPECIALTY CONTAINER INC | 173.306(a)(3), 178.33-7(a), 178.33a-7(a), 178.33c-1 | To authorize the manufacture, mark, sale, and use of non-DOT specification receptacles with reduced wall thickness. (modes 1, 2, 3, 4, 5).
20639-N | ICC THE COMPLIANCE CENTER INC | 172.200, 172.300, 172.400, 172.700(a), 173.185(f) | To authorize the manufacture, mark, sale, and use of alternative packaging for the transport of damaged, defective, and recalled batteries. (modes 1, 2, 3).
20640-N | Insitu Inc | 173.220(d) | To authorize the transportation in commerce of vehicles containing prototype lithium batteries via cargo-only aircraft. (mode 4).
20641-N | THERMO MF PHYSICS LLC | 173.304a(a)(1) | To authorize the transportation in commerce of non-DOT specification cylinders containing sulfur hexafluoride gas. (modes 1, 3, 4, 5).
20644-N | 229 CRI CRITERION INC | 172.102(c)(2) | To authorize the transportation in commerce of 50G large packagings containing solid environmentally hazardous substances via air. (modes 4, 5).
20645-N | WALMART INC. | 173.159a(c)(2), 173.185(c)(1)(iii), 173.185(c)(1)(iv), 173.185(c)(1)(v), 173.185(c)(3) | To authorize the transportation in commerce of lithium batteries with alternative hazard communication. (modes 1, 2).
20646-N | OMNI TANKER PTY. LTD | 107.503(b), 107.503(c), 172.102(c)(3), 172.203(a), 173.241, 173.242, 173.243, 178.348-1, 178.345-1, 178.347-1, 180.405, 180.413(d) | To authorize the manufacture, mark, sale, and use of non-DOT specification portable tanks. (mode 1).
20650-N | ONYX ENVIRONMENTAL SERVICES LLC | 173.21(b), 173.51, 173.54(a), 173.56(b) | To authorize the one-time, one-way transportation in commerce of an unapproved cartridge, power device. (mode 1).
20651-N | ATIEVA USA, INC | 172.101(j) | To authorize the transportation in commerce of lithium ion batteries in excess of 35 kg by cargo-only aircraft. (mode 4).
20652-N | AMETEK AMERON, LLC | 173.302a(a)(1) | To authorize the manufacture, mark, sale, and use of non-DOT specification cylinders. (modes 1, 2, 3, 4, 5).
20653-N | JOHNSON CONTROLS, INC | 173.185(b) | To authorize the transportation in commerce of lithium ion batteries in alternative packaging. (modes 1, 2, 3).
20654-N | JOHNSON CONTROLS ADVANCED POWER SOLUTIONS, LLC | 173.185(a) | To authorize the transportation in commerce of prototype and low production lithium ion batteries via cargo-only aircraft. (mode 4).

[FR Doc. 2018-09976 Filed 5-9-18; 8:45 am]

BILLING CODE 4909-60-P